COMMITTEE FOR PURCHASE FROM PEOPLE WHO ARE BLIND OR SEVERELY DISABLED

Procurement List; Additions and Deletions

AGENCY: Committee for Purchase from People Who Are Blind or Severely Disabled.

ACTION: Additions to and Deletions from the Procurement List.

SUMMARY: This action adds to the Procurement List a product and services to be furnished by nonprofit agencies employing persons who are blind or have other severe disabilities, and deletes from the Procurement List services previously furnished by such agencies.

EFFECTIVE DATE: August 12, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On May 11 and May 18, 2007, the Committee for Purchase From People Who Are Blind or Severely Disabled published notice (72 F.R.26779; 28024) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following product and services are added to the Procurement List:

Product

DVD Label Refill

NSN: 7530-00-NIB-0815

NPA: North Central Sight Services, Inc., Williamsport, PA

Contracting Activity: General Services Administration, Office Supplies & Paper Products Acquisition Ctr, New York, NY

Coverage: A-List—for the total Government requirement as aggregated by the General Services Administration

Services

Service Type/Location: Consolidated Mailroom Services

Department of Homeland Security, (Metro Washington, DC-VA, MD), Washington, DC

NPA: ServiceSource, Inc., Alexandria, VA

Contracting Activity: Department of Homeland Security Headquarters, Washington, DC

Service Type/Location: Custodial Services

U.S. Coast Guard—San Juan Base Exchange,La Puntilla Street, San Juan, PR

U.S. Coast Guard—West Air Field Exchange, Road 107, Gate 1, Aguadilla, PR

NPA: The Corporate Source, Inc., New York, NY

Contracting Activity: U.S. Coast Guard—Norfolk, Norfolk, VA

Deletions

On May 18 and May 25, 2007, the Committee for Purchase From People Who Are Blind or Severely Disabled published notice (72 F.R.28024; 29296) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial

U.S. Customs Service, Office of Investigation, East and West Wings, Building 50, JFK Airport, Jamaica, NY

NPA: Goodwill Industries of Greater New York and Northern New Jersey, Inc., Astoria, NY

Contracting Activity: Department of the Treasury, U.S. Customs Service, Indianapolis, IN

Service Type/Location: Laundry Service

National Naval Medical Center, Bethesda, MD

NPA: Rappahannock Goodwill Industries, Inc., Fredericksburg, VA

Contracting Activity: North Atlantic Contracting Office, Washington, DC

Kimberly M. Zeich,
Director, Program Operations.

[FR Doc. E7-13614 Filed 7-12-07; 8:45 am]

BILLING CODE 6353-01-P